DEPARTMENT OF TRANSPORTATION

Surface Transportation Board

[Docket No. FD 35578]

Birmingham Terminal Railway, L.L.C.—Acquisition and Operation Exemption—Birmingham Southern Railroad Company

Birmingham Terminal Railway, L.L.C. (BHRR), a noncarrier, has filed a verified notice of exemption under 49 CFR 1150.31 to acquire from Birmingham Southern Railroad Company (BS), and to operate approximately 75.59 miles of rail line, including all sidings and yard tracks as follows: (1) Between milepost 0.0 at 34th Street in Ensley, Ala., and milepost 4.7 at East Thomas, Ala.; (2) between milepost 0.0 at 34th Street in Ensley and milepost 9.8 at Bessemer, Ala.; and (3) between milepost 0.0 at the Port Connection Switch at Crawford Street in Fairfield, Ala., and milepost 18.85 at Birmingport, Ala.¹

¹ BHRR is a new, wholly owned subsidiary of Watco Holdings, Inc.; BS, a subsidiary of Transtar, Inc., is a Class III terminal and switching carrier.

This transaction is related to a concurrently filed verified notice of exemption in Docket No. FD 35579, Watco Holdings, Inc.—Continuance in Control Exemption—Birmingham Terminal Railway, L.L.C., wherein Watco Holdings, Inc., seeks Board approval to continue in control of BHRR, upon BHRR's becoming a Class III rail carrier.

The parties intend to consummate the transaction after the effective date of the verified notice of exemption.

BHRR certifies that its projected annual revenues as a result of this transaction will not exceed those that would qualify it as a Class III rail carrier. Because BHRR's projected annual revenues will exceed $5 million, BHRR certified to the Board on December 2, 2011, that it had complied with the requirements of 49 CFR 1150.32(e) on December 1, 2011, by providing notice to employees and their labor unions on the affected line. Under 49 CFR 1150.32(e), this exemption cannot become effective until 60 days after the date notice was provided.

If the verified notice contains false or misleading information, the exemption is void ab initio. Petitions to revoke the exemption under 49 U.S.C. 10502(d) may be filed at any time. The filing of a petition to revoke will not automatically stay the effectiveness of the exemption. Petitions to stay must be filed no later than January 23, 2012 (at least 7 days before the exemption becomes effective).

An original and 10 copies of all pleadings, referring to Docket No. FD 35578, must be filed with the Surface Transportation Board, 395 E Street SW., Washington, DC 20423-0001. In addition, a copy of each pleading must be served on Karl Morell, 655 Fifteenth Street NW., Suite 225, Washington, DC 20005.

Board decisions and notices are available on our Web site at www.stb.dot.gov.

Decided: January 10, 2012.
By the Board, Rachel D. Campbell, Director, Office of Proceedings.
Raina S. White,
Clearance Clerk.

[FR Doc. 2012-558 Filed 1-12-12; 8:45 am]

BILLING CODE 4915-01-P